DEPARTMENT OF HEALTH AND HUMAN SERVICES

Administration for Children and Families

Agency Recordkeeping/Reporting Requirements Under Emergency Review by the Office of Management and Budget (OMB)

Title: Mother and Infant Home Visiting Program Evaluation. (MIHOPE): Site Recruitment.

OMB No.: New Collection.

Description: The Administration for Children and Families (ACF) and Health Resources and Services Administration (HRSA) within the U.S. Department of Health and Human Services (HHS) have launched a national evaluation called the Mother and Infant Home Visiting Evaluation Project (MIHOPE). This evaluation, mandated by the Affordable Care Act, will inform the federal government about the effectiveness of the newly established MIECHV program in its first few years of operation, and provide information to help states develop and strengthen home visiting programs in the future. By systematically estimating the effects of home visiting programs across a wide range of outcomes and studying the variation in how programs are implemented, MIHOPE will provide valuable information on the effects of these programs on parents and children. This includes investigating the effects of home visiting on maternal and child well-being, how those effects vary for different home visiting approaches, and how variations in program design and implementation influence program fidelity and impacts.

The MIHOPE study includes two phases: Phase 1 includes site recruitment, baseline data collection and implementation data; Phase 2 includes follow up data collection. The purpose of the current document is to request an emergency approval of site recruitment efforts needed for Phase 1. The overall goal for site recruitment in MIHOPE is to select 85 sites across approximately 12 states. States and their local program sites will be selected for MIHOPE in 2012 based on a variety of characteristics including: The type of home visiting model, geography, urbanicity, target population, and research feasibility. There is currently limited documentation available to aid site selection. The study team reviewed and analyzed the MIECHV implementation plans each state submitted to the U.S. Department of Health and Human Services. These plans provided a general overview, however, the plans did not consistently provide the specific answers needed for site selection. For this reason, we will need to contact states and their local programs to confirm what was collected from the plans and request some additional information. This information needs to be collected in early 2012 to ensure that baseline data collection can begin in July 2012. Site recruitment will include: emails, phone calls, and site visits with state administrators and state and local program site staff.

Respondents: The respondents will be state MIECHV administrators and home visiting program managers. Data collection activities will take place over a 1-year period.

Annual Burden Estimates
Instrument | Annual number of respondents | Number of responses per respondent | Average burden hours per response | Total annual burden hours
Information package for state representatives | 30 | 1 | 0.5 | 15
Telephone script for state representatives | 30 | 1 | 1.0 | 30
Telephone protocol for local program directors | 80 | 1 | 1.5 | 120
In-person visit protocol for local program directors | 40 | 1 | 3.0 | 120

Estimated Total Annual Burden Hours: 285.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 21 days of this publication.

Robert Sargis,
Reports Clearance Officer.

[FR Doc. 2011-32824 Filed 12-21-11; 8:45 am]

BILLING CODE 4184-22-P